FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 24, 2016.

A. Federal Reserve Bank of Chicago (Colette A. Fried, Assistant Vice President) 230 South LaSalle Street, Chicago, Illinois 60690-1414:

1. Gerald F. Fitzgerald, Jr., Palatine, Illinois; the Gerald F. Fitzgerald, Jr. Trust Dated September 10, 1987, as Restated December 31, 2009, Palatine, Illinois with Gerald F. Fitzgerald, Jr., as trustee; S.C. Investments, L.P., Palatine, Illinois, with Gerald F. Fitzgerald as general partner; the Julie F. Schauer 1994 Trust, Palatine, Illinois, with Julie F. Schauer as trustee; the GFF Family Exempt Trust Dated January 18, 1988, Inverness, Illinois, with Gerald F. Fitzgerald, Jr., James G. Fitzgerald, Thomas G. Fitzgerald and Peter G. Fitzgerald, Palatine, Illinois, as co-trustees; and Otis Road Investments, LP, Inverness, Illinois, with Otis Management LLC, Inverness, Illinois as its general partner (“GP”); and the principal of GP, James G. Fitzgerald, acting in concert; to retain and acquire additional shares of LaSalle Bancorp, Inc. and thereby indirectly acquire shares of Hometown National Bank, both of LaSalle, Illinois.

B. Federal Reserve Bank of Kansas City (Dennis Denney, Assistant Vice President) 1 Memorial Drive, Kansas City, Missouri 64198-0001:

1. Larry Mulcahy, Olathe, Kansas, to acquire voting shares of Roxbury Bancshares, Inc., and thereby acquire shares of Roxbury Bank, both of Roxbury, Kansas.

Board of Governors of the Federal Reserve System, August 4, 2016.
Michele T. Fennell,
Assistant Secretary of the Board.

[FR Doc. 2016-18857 Filed 8-8-16; 8:45 am]

BILLING CODE 6210-01-P